DEPARTMENT OF THE INTERIOR

National Park Service

[NPS-WASO-CR-10633; 2200-3210-665]

Information Collection Activities: National Historic Landmarks (NHL) Condition Survey

AGENCY: National Park Service (NPS), Interior.

ACTION: Notice; request for comments.

SUMMARY: We (National Park Service) will ask the Office of Management and Budget (OMB) to approve the Information Collection (IC) described below. This collection will consist of a survey instrument. As required by the Paperwork Reduction Act of 1995, and as part of our continuing efforts to reduce paperwork and respondent burden, we invite the general public and other Federal agencies to take this opportunity to comment on this IC.

DATES: To ensure that your comments on this IC are considered, we must receive them on or before September 28, 2012.

ADDRESSES: Please send your comments to Phadrea Ponds, Information Collections Coordinator, National Park Service, 1201 Oakridge Drive, Fort Collins, CO 80525 (mail); or phadrea_ponds@nps.gov (email). Please reference Information Collection 1024-NEW, National Historic Landmarks (NHL) Condition Survey in the subject line.

FOR FURTHER INFORMATION CONTACT: Barbara Wyatt, Historian, National Historic Landmarks Program, 1201 Eye St. NW., Washington, DC 20005. You may send an email to barbara_wyatt@nps.gov (email) or 202-371-2229 (fax).

SUPPLEMENTARY INFORMATION:

I. Abstract

National Historic Landmarks (NHL) are nationally significant historic places designated by the Secretary of the Interior because they possess exceptional value or quality in illustrating or interpreting the heritage of the United States. Today, 2,501 historic places bear this national distinction. Working with citizens throughout the nation, the National Historic Landmarks Program draws upon the expertise of National Park Service staff who work to nominate new landmarks and provide assistance to stewards of existing landmarks. Nominations are submitted by property owners and property stewards to the National Park Service. They are reviewed by qualified subject experts prior to their review by the NHL Advisory Board.

The NPS and NHL staff is required by The Historic Sites Act to collect information regarding the condition of designated landmarks. A questionnaire will be designed and used to collect information from owners or other stewards so the condition of NHLs can be monitored over time. The regional offices of NPS assist in the collection of the condition data. Regional NPS staff contributed to the design of the questionnaire that is the subject of this request.

II. Data

OMB Control Number: 1024—New.

Title: National Historic Landmarks (NHL) Condition Survey.

Type of Request: Existing collection in use without an OMB Control Number.

Description of Respondents: State, tribal, and local governments; businesses; nonprofit organizations; and individuals.

Respondent's Obligation: Voluntary.

Frequency of Collection: One time.

Estimated Number of Responses: 1,625.

Annual Burden Hours: 271 hours. We estimate an average of 10 minutes per response.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

We invite comments concerning this IC on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 23, 2012.
Madonna L. Baucum,
Information Collection Clearance Officer, National Park Service.

[FR Doc. 2012-18474 Filed 7-27-12; 8:45 am]

BILLING CODE 4312-52-P